DEPARTMENT OF JUSTICE

Drug Enforcement Administration

[DEA # 270E]

Controlled Substances: Established Initial Aggregate Production Quotas for 2006

AGENCY: Drug Enforcement Administration (DEA), Justice.

ACTION: Notice of aggregate production quotas for 2006.

SUMMARY: This notice establishes initial 2006 aggregate production quotas for controlled substances in Schedules I and II of the Controlled Substances Act (CSA).

DATES: Effective Date: December 9, 2005.

FOR FURTHER INFORMATION CONTACT: Christine A. Sannerud, Ph.D., Chief, Drug & Chemical Evaluation Section, Drug Enforcement Administration, Washington, DC 20537, Telephone: (202) 307-7183.

SUPPLEMENTARY INFORMATION: Section 306 of the CSA (21 U.S.C. 826) requires that the Attorney General establish aggregate production quotas for each basic class of controlled substance listed in Schedules I and II. This responsibility has been delegated to the Administrator of the DEA by 28 CFR 0.100. The Administrator, in turn, has redelegated this function to the Deputy Administrator, pursuant to 28 CFR 0.104.

The 2006 aggregate production quotas represent those quantities of controlled substances that may be produced in the United States in 2006 to provide adequate supplies of each substance for: the estimated medical, scientific, research and industrial needs of the United States; lawful export requirements; and the establishment and maintenance of reserve stocks (21 U.S.C. 826(a) and 21 CFR 1303.11). These quotas do not include imports of controlled substances for use in industrial processes.

On October 21, 2005, a notice of the proposed initial 2006 aggregate production quotas for certain controlled substances in Schedules I and II was published in the Federal Register (FR 61310). All interested persons were invited to comment on or object to these proposed aggregate production quotas on or before November 14, 2005.

Eight responses were received resulting in comments on a total of 24 Schedule I and II controlled substances within the published comment period. The responses commented that the proposed aggregate production quotas for 4-methoxyamphetamine, amphetamine, codeine (for conversion), codeine (for sale), difenoxin, dihydrocodeine, dihydromorphine, diphenoxylate, fentanyl, gamma-hydroxybutyric acid (GHB), hydrocodone, hydromorphone, meperidine, methamphetamine, methylphenidate, morphine, morphine (for conversion), noroxymorphone (for conversion), oxycodone, oxymorphone, pentobarbital, remifentanil, sufentanil and tetrahydrocannabinols were insufficient to provide for the estimated medical, scientific, research and industrial needs of the United States, for export requirements and for the establishment and maintenance of reserve stocks.

DEA has taken into consideration the above comments along with the relevant 2005 manufacturing quotas, current 2005 sales and inventories, 2006 export requirements, additional applications received, and research and product development requirements. Based on this information, the DEA has adjusted the initial aggregate production quotas for 3,4-methylenedioxyamphetamine (MDA), 3,4-methylenedioxy-N-ethylamphetamine (MDEA), 3,4-methylenedioxymethamphetamine (MDMA), 4-methoxyamphetamine, 4-methyl-2,5-dimethoxyamphetamine (DOM), bufotenine, cathinone, codeine-N-oxide, heroin, methaqualone, morphine-N-oxide, normorphine, psilocybin, alfentanil, amobarbital, amphetamine, cocaine, dihydrocodeine, ecgonine, hydrocodone (for sale), levo-alphacetylmethadol (LAAM), levomethorphan, methadone (for sale), methadone intermediate, methamphetamine, methamphetamine (for conversion), noroxymorphone (for conversion), pentobarbital, phencyclidine, remifentanil and sufentanil to meet the legitimate needs of the United States.

Regarding codeine (for conversion), codeine (for sale), difenoxin, dihydromorphine, diphenoxylate, fentanyl, gamma-hydroxybutyric acid (GHB), hydromorphone, meperidine, methylphenidate, morphine, morphine (for conversion), oxycodone, oxymorphone, and tetrahydrocannabinols, the DEA has determined that the proposed initial 2006 aggregate production quotas are sufficient to meet the current 2006 estimated medical, scientific, research and industrial needs of the United States.

Pursuant to 21 CFR part 1303, the Deputy Administrator of the DEA will, in 2006, adjust aggregate production quotas and individual manufacturing quotas allocated for the year based upon 2005 year-end inventory and actual 2005 disposition data supplied by quota recipients for each basic class of Schedule I or II controlled substance.

Therefore, under the authority vested in the Attorney General by Section 306 of the CSA (21 U.S.C. 826), and delegated to the Administrator of the DEA by 28 CFR 0.100, and redelegated to the Deputy Administrator pursuant to 28 CFR 0.104, the Deputy Administrator hereby orders that the 2006 initial aggregate production quotas for the following controlled substances, expressed in grams of anhydrous acid or base, be established as follows:

| Established initial 2006 quotas (grams)
Basic Class—Schedule I:
2,5-Dimethoxyamphetamine | 2,801,000
2,5-Dimethoxy-4-ethylamphetamine (DOET) | 2
3-Methylfentanyl | 2
3-Methylthiofentanyl | 2
3,4-Methylenedioxyamphetamine (MDA) | 20
3,4-Methylenedioxy-N-ethylamphetamine (MDEA) | 10
3,4-Methylenedioxymethamphetamine (MDMA) | 22
3,4,5-Trimethoxyamphetamine | 2
4-Bromo-2,5-dimethoxyamphetamine (DOB) | 2
4-Bromo-2,5-dimethoxyphenethylamine (2-CB) | 2
4-Methoxyamphetamine | 77
4-Methylaminorex | 2
4-Methyl-2,5-dimethoxyamphetamine (DOM) | 12
5-Methoxy-3,4-methylenedioxyamphetamine | 2
Acetyl-alpha-methylfentanyl | 2
Acetyldihydrocodeine | 2
Acetylmethadol | 2
Allylprodine | 2
Alphacetylmethadol | 2
Alpha-ethyltryptamine | 2
Alphameprodine | 2
Alphamethadol | 3
Alpha-methylfentanyl | 2
Alpha-methylthiofentanyl | 2
Aminorex | 2
Benzylmorphine | 2
Betacetylmethadol | 2
Beta-hydroxy-3-methylfentanyl | 2
Beta-hydroxyfentanyl | 2
Betameprodine | 2
Betamethadol | 2
Betaprodine | 2
Bufotenine | 5
Cathinone | 3
Codeine-N-oxide | 302
Diethyltryptamine | 2
Difenoxin | 5,000
Dihydromorphine | 1,826,000
Dimethyltryptamine | 3
Gamma-hydroxybutyric acid | 8,000,000
Heroin | 5
Hydromorphinol | 2
Hydroxypethidine | 2
Lysergic acid diethylamide (LSD) | 61
Marihuana | 4,500,000
Mescaline | 2
Methaqualone | 10
Methcathinone | 4
Methyldihydromorphine | 2
Morphine-N-oxide | 310
N,N-Dimethylamphetamine | 2
N-Ethylamphetamine | 2
N-Hydroxy-3,4-methylenedioxyamphetamine | 2
Noracymethadol | 2
Norlevorphanol | 52
Normethadone | 2
Normorphine | 16
Para-fluorofentanyl | 2
Phenomorphan | 2
Pholcodine | 2
Psilocybin | 7
Psilocyn | 7
Tetrahydrocannabinols | 312,500
Thiofentanyl | 2
Trimeperidine | 2
Basic Class—Schedule II:
1-Phenylcyclohexylamine | 2
Alfentanil | 5,000
Alphaprodine | 2
Amobarbital | 101,000
Amphetamine | 17,000,000
Cocaine | 286,000
Codeine (for sale) | 39,605,000
Codeine (for conversion) | 55,000,000
Dextropropoxyphene | 167,365,000
Dihydrocodeine | 1,261,000
Diphenoxylate | 828,000
Ecgonine | 83,000
Ethylmorphine | 2
Fentanyl | 1,428,000
Glutethimide | 2
Hydrocodone (for sale) | 41,252,000
Hydrocodone (for conversion) | 1,500,000
Hydromorphone | 3,300,000
Isomethadone | 2
Levo-alphacetylmethadol (LAAM) | 6
Levomethorphan | 5
Levorphanol | 5,000
Meperidine | 9,753,000
Metazocine | 1
Methadone (for sale) | 21,000,000
Methadone Intermediate | 26,000,000
Methamphetamine | 3,130,000
[680,000 grams of levo-desoxyephedrine for use in a non-controlled, non-prescription product; 2,405,000 grams for methamphetamine mostly for conversion to a Schedule III product; and 45,000 grams for methamphetamine (for sale)]
Methylphenidate | 35,000,000
Morphine (for sale) | 35,000,000
Morphine (for conversion) | 110,774,000
Nabilone | 2
Noroxymorphone (for sale) | 1,002
Noroxymorphone (for conversion) | 5,600,000
Opium | 1,280,000
Oxycodone (for sale) | 49,200,000
Oxycodone (for conversion) | 920,000
Oxymorphone | 534,000
Pentobarbital | 20,335,000
Phencyclidine | 2,021
Phenmetrazine | 2
Racemethorphan | 2
Remifentanil | 2,700
Secobarbital | 2
Sufentanil | 6,500
Thebaine | 72,453,000

The Deputy Administrator further orders that aggregate production quotas for all other Schedules I and II controlled substances included in 21 CFR 1308.11 and 1308.12 be established at zero.

The Office of Management and Budget has determined that notices of aggregate production quotas are not subject to centralized review under Executive Order 12866.

This action does not preempt or modify any provision of state law; nor does it impose enforcement responsibilities on any state; nor does it diminish the power of any state to enforce its own laws. Accordingly, this action does not have federalism implications warranting the application of Executive Order 13132.

The Deputy Administrator hereby certifies that this action will have no significant impact upon small entities whose interests must be considered under the Regulatory Flexibility Act, 5 U.S.C. 601 et seq. The establishment of aggregate production quotas for Schedules I and II controlled substances is mandated by law and by international treaty obligations. The quotas are necessary to provide for the estimated medical, scientific, research and industrial needs of the United States, for export requirements and the establishment and maintenance of reserve stocks. While aggregate production quotas are of primary importance to large manufacturers, their impact upon small entities is neither negative nor beneficial. Accordingly, the Deputy Administrator has determined that this action does not require a regulatory flexibility analysis.

This action meets the applicable standards set forth in Sections 3(a) and 3(b)(2) of Executive Order 12988 Civil Justice Reform.

This action will not result in the expenditure by State, local, and tribal governments, in the aggregate, or by the private sector, of $114,000,000 or more in any one year, and will not significantly or uniquely affect small governments. Therefore, no actions were deemed necessary under the provisions of the Unfunded Mandates Reform Act of 1995.

This action is not a major rule as defined by Section 804 of the Small Business Regulatory Enforcement Fairness Act of 1996. This action will not result in an annual effect on the economy of $100,000,000 or more; a major increase in costs or prices; or significant adverse effects on competition, employment, investment, productivity, innovation, or on the ability of United States-based companies to compete with foreign-based companies in domestic and export markets.

Dated: December 2, 2005.
Michele M. Leonhart,
Deputy Administrator.

[FR Doc. E5-7110 Filed 12-8-05; 8:45 am]

BILLING CODE 4410-09-P